DEPARTMENT OF HOMELAND SECURITY

Office of the Secretary

Privacy Act of 1974; System of Records

AGENCY: Privacy Office, DHS.

ACTION: Notice of removal of one Privacy Act system of records notice.

SUMMARY: In accordance with the Privacy Act of 1974, the Department of Homeland Security is giving notice that it will remove one system of records notice from its inventory of record systems because Immigration and Customs Enforcement no longer requires the system. The obsolete system is: Treasury/CS.186 Personnel Search System.

DATES: Effective Date: February 17, 2009.

FOR FURTHER INFORMATION CONTACT: Hugo Teufel III, Chief Privacy Officer, Department of Homeland Security, Washington, DC 20528, by telephone (703) 235-0780 or facsimile (703) 483-2999.

SUPPLEMENTARY INFORMATION: Pursuant to the provisions of the Privacy Act of 1974, 5 U.S.C. 552a, and as part of its ongoing integration and management efforts, the Department of Homeland Security (DHS) is removing one Immigration and Customs Enforcement (ICE) system of records notice from its inventory of record systems.

DHS inherited this record system upon its creation in January of 2003. Upon review of its inventory of record systems, DHS has determined it no longer needs or uses this system of records and is retiring Treasury/CS.186 Personnel Search System (66 FR 52984 October 18, 2001).

Treasury/CS.186 Personnel Search System (66 FR 52984 October 18, 2001) was originally established to collect and maintain records on individuals indicating unlawful or suspicious activity that might result in a Customs violation.

Eliminating this system of records notices will have no adverse impact on individuals, but will promote the overall streamlining and management of DHS Privacy Act record systems.

Dated: December 22, 2008.
Hugo Teufel III,
Chief Privacy Officer, Department of Homeland Security.

[FR Doc. E9-933 Filed 1-15-09; 8:45 am]

BILLING CODE 4410-10-P